FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Federal Hotel and Motel Fire Safety Declaration Form.

Type of Information Collection: Existing collection in use without OMB approval.

OMB Number: 3067—New.

Abstract: FEMA is required to establish and maintain a National Master List (NML) of approved fire safe hotels, motels, or other places of public accommodation. The Federal Hotel Motel Fire Safety Declaration Form is submitted either electronically or in a paper format, and used by property managers to report a property's compliance with safety equipment requirements. The NML is also available to Federal employees, States and the general public, and the hotel and motel industry.

Affected Public: Business or Other For-Profit, Not-For-Profit, and Federal Government.

Number of Respondents: 2,000 properties per year.

Estimated Time per Respondent: Property Owners—15 minutes; Property Owner Updates—3 minutes; State Burden—20 minutes.

Estimated Total Annual Burden Hours: 1,182 hours.

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, 500 C Street, SW, Room 316, Washington, DC 20472. facsimile number (202) 646-3347or email address InformationCollections@fema.gov.

Dated: November 19, 2002.
Edward W. Kernan,
Division Director, Information Resources Management Division, Information Technology Services Directorate.

[FR Doc. 02-30388 Filed 11-29-02; 8:45 am]

BILLING CODE 6718-01-P